DEPARTMENT OF STATE

[Public Notice: 9406]

In the Matter of the Designation of ISIL Khorasan also known as Islamic State's Khorasan Province also known as ISIS Wilayat Khorasan also known as ISIL's South Asia Branch also known as South Asian Chapter of ISIL as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to ISIL Khorasan also known as Islamic State's Khorasan Province also known as ISIS Wilayat Khorasan also known as ISIL's South Asia Branch also known as South Asian chapter of ISIL.

Therefore, I hereby designate the aforementioned organization and its aliases as a foreign terrorist organization pursuant to section 219 of the INA.

This determination shall be published in the Federal Register.

Dated: December 31, 2015.
John F. Kerry,
Secretary of State.

[FR Doc. 2016-00614 Filed 1-13-16; 8:45 am]

BILLING CODE 4710-AD-P